DEPARTMENT OF JUSTICE

Notice of Lodging of Proposed Consent Decree Under the Comprehensive Environmental Response, Compensation, and Liability Act

On February 18, 2021, the Department of Justice lodged a proposed consent decree with the United States District Court for the Eastern District of Wisconsin in the lawsuit entitled United States v. Wisconsin Public Service Corporation, Civil Action No. 21-cv-00211.

The United States filed this lawsuit under the Comprehensive Environmental Response, Compensation and Liability Act (“CERCLA”). The complaint names Wisconsin Public Service Corporation (“WPSC”) as the defendant. The complaint requests recovery of costs that the United States incurred responding to releases of hazardous substances at the Wisconsin Public Service Corporation Manitowoc MGP Superfund Alternative Site in Manitowoc, Wisconsin. The complaint also seeks injunctive relief at operable unit 1 of the Site. In return, the United States agrees not to sue WPSC under sections 106 and 107 of CERCLA and Section 7003 of the Solid Waste Disposal Act, 42 U.S.C. 6901-6992 (also known as the Resource Conservation and Recovery Act (“RCRA”)). Commentors may request an opportunity for a public meeting in the affected area, in accordance with Section 7003(d) of RCRA.

The publication of this notice opens a period for public comment on the consent decree. Comments should be addressed to the Assistant Attorney General, Environment and Natural Resources Division, and should refer to United States v. Wisconsin Public Service Corporation, D.J. Ref. No. 90-11-3-12152. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department website: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $43.50 (25 cents per page reproduction cost) payable to the United States Treasury. For a paper copy without the exhibits and signature pages, the cost is $11.50.

Patricia McKenna,
Assistant Section Chief, Environmental Enforcement Section, Environment and Natural Resources Division.

[FR Doc. 2021-03880 Filed 2-24-21; 8:45 am]

BILLING CODE 4410-15-P